DEPARTMENT OF HOUSING AND URBAN DEVELOPMENT

[Docket No. 4900-C-02C]

FY 2004 SuperNOFA for HUD's Discretionary Programs; Correction and Extension of SHOP NOFA Application Deadline

AGENCY: Office of the Secretary, HUD.

ACTION: Notice: correction and extension of SHOP NOFA application deadline.

SUMMARY: This document makes corrections to a document published in the Federal Register on May 14, 2004, concerning HUD's Fiscal Year (FY) 2004 Super Notice of Funding Availability (SuperNOFA). The corrections pertain solely to the Self-Help Homeownership Opportunity Program (SHOP). The corrections are designed to reflect recent statutory amendments to the statute authorizing SHOP. As a result of these changes, HUD is extending the application due date for the SHOP SuperNOFA.

DATES: The application due date for the SHOP SuperNOFA is extended to September 17, 2004.

FOR FURTHER INFORMATION CONTACT: Lou Thompson, Office of Community Planning and Development, Room 7162, Department of Housing and Urban Development, 451 Seventh Street, SW., Washington, DC 20410-7000; telephone (202) 708-2470 (this is not a toll-free number). Individuals with speech or hearing impairments may access this number through TTY by calling the toll-free Federal Information Relay Service at (800) 877-8339.

SUPPLEMENTARY INFORMATION:

I. Background

On May 14, 2004 (69 FR 26941), HUD published its Fiscal Year (FY) 2004, Super Notice of Funding Availability (SuperNOFA). On May 28, 2004 (69 FR 30697), June 22, 2004 (69 FR 34878), and July 20, 2004 (69 FR 43427), respectively, HUD published technical corrections for several of the programs included in the SuperNOFA. The June 22, 2004 (69 FR 34878), notice contained specific technical corrections for the Self-Help Homeownership Program (SHOP) section of the FY 2004 SuperNOFA; however, the due date for the funding application did not change. This notice published in today's Federal Register further amends the SHOP section of the FY 2004 SuperNOFA. This correction conforms the SHOP NOFA to the Helping Hands for Homeownership Act of 2004 (Pub. L. 108-285, approved August 2, 2004) (Helping Hands Act). The Helping Hands Act amended 11(b)(1) of the Housing Opportunity Program Extension Act of 1996 (42 U.S.C. 12805 note) (HOPEA), which authorizes SHOP. Specifically, section two of the Helping Hands Act amended paragraph 11(b)(1) of HOPEA by striking “dwelling” and inserting “dwellings.” This amendment permits greater flexibility to SHOP grantees by permitting homebuyers to contribute sweat equity to additional dwellings other than their own home. To allow FY2004 applicants to be able to take advantage of the greater flexibility, HUD is correcting the SHOP NOFA to include the new statutory language, and consequently extend the application deadline. For future SHOP competitions, HUD intends to seek public input on the definition of “sweat equity,” which may include rulemaking should HUD determine it to be appropriate.

II. Extension of SHOP Application Due Date

The changes affect the thresholds for sweat equity and volunteer labor in the SHOP section of the FY 2004 SuperNOFA. Due to these program changes, it is necessary to extend the SHOP FY 2004 SuperNOFA funding application due date from its original date of July 20, 2004. The new application due date for the SHOP SuperNOFA is September 17, 2004.

This extension will permit organizations that could not meet the prior requirements, and therefore did not apply, or those whose applications were not submitted by the July 20, 2004, application deadline, an opportunity to still apply for FY 2004 SHOP funding. Applicants that met the July 20, 2004, application deadline will have an opportunity to revise their applications if they so choose. If an applicant does not submit a new application or revisions to its previously submitted application, HUD will review the previously submitted application. Applicants may submit a totally new application or they have the option of submitting only the section or sections affected by these changes. For example, if a change is made in rating factor 3, the entire rating factor 3 must be submitted. HUD will only accept an entire section or sections to the revised application. HUD will not accept parts of a section, individual pages, or paragraphs. This limitation is to ensure that no information is omitted. A transmittal letter identifying the pages and sections changed must be signed by the same person that signed the SF-424.

Accordingly, this document makes the following corrections:

Self-Help Homeownership Opportunity Program (SHOP) Eligibility Information

On page 27362 of the May 14, 2004, SuperNOFA under section III.C.2. captioned “Threshold Requirements,” HUD corrects section III.C.2.e. to read as follows:

e. Your program must require homebuyers to contribute a minimum of 100 hours of sweat equity toward the construction or rehabilitation of their own homes and/or the homes of other homebuyers participating in the self-help housing program. However, in the case of a household with only one adult, the requirement is 50 hours of sweat equity. This includes training for construction on the dwelling units, but excludes homebuyer counseling and home maintenance training. Reasonable accommodation must be permitted in the provision of sweat equity for persons with disabilities.

On page 27362 of the May 14, 2004, SuperNOFA under section III.C.2 captioned “Threshold Requirements,” HUD corrects section III.C.2.f. to read as follows:

f. Your program must involve community participation in which volunteers assist in the construction of dwellings. Volunteer labor is work performed by an individual without promise, expectation or compensation for the work rendered. For mutual self-help housing programs that are assisted by USDA Rural Development under section 523 of the Housing Act of 1949 (7 CFR Part 1944, Subpart I) or which have a program design similar to the section 523 program, the work by each participating family on other participating families' homes may count as volunteer labor. A mutual self-help housing program generally involves 4 to 10 participating families organized in a group to use their own labor to reduce the total construction cost of their homes and complete construction work on their homes by an exchange of labor with one another.

Dated: August 10, 2004.
Nelson Bregón,
General Deputy Assistant Secretary for Community Planning and Development.

[FR Doc. 04-18862 Filed 8-17-04; 8:45 am]

BILLING CODE 4210-29-P